NUCLEAR WASTE TECHNICAL REVIEW BOARD

Board Meeting: February 17, 2016—The U.S. Nuclear Waste Technical Review Board Will Meet To Discuss DOE Research on Storage and Transportation of High Burnup Spent Fuel

Pursuant to its authority under section 5051 of Public Law 100-203, Nuclear Waste Policy Amendments Act of 1987, and in accordance with its mandate to review the technical and scientific validity of U.S. Department of Energy (DOE) activities related to implementing the Nuclear Waste Policy Act of 1982 (NWPA), the U.S. Nuclear Waste Technical Review Board will meet in Knoxville, Tennessee, on February 17, 2016, to review DOE activities related to extended storage and transportation of high burnup spent nuclear fuel (HBF). The focus of the meeting will be DOE research related to determining the performance and potential degradation of HBF during storage and transportation, including storage at a nuclear utility site and subsequent transportation to a geologic repository, as well as the potential effects of a second period of extended storage, possibly at an interim storage site, followed by transportation to a geologic repository.

The Nuclear Waste Policy Amendments Act (NWPAA) of 1987 charges the Board with performing an ongoing and independent evaluation of the technical and scientific validity of DOE activities related to the disposition of spent nuclear fuel (SNF) and high-level radioactive waste (HLW).

The meeting will be held at the Knoxville Marriott, 501 E. Hill Avenue, Knoxville, TN 37915; Tel. 865-637-1234; Fax 865-637-1193. A block of rooms has been reserved for meeting attendees at a group rate of $119.95 per night, single/double occupancy. Reservations may be made online at: http://www.marriott.com/meeting-event-hotels/group-corporate-travel/groupCorp.mi?resLinkData=Nuclear%20Waste%20Technical%20Review%20Board%5Etysmc%60nwtnwta%60119.95%60USD%60false%604%602/15/16%602/19/16%601/29/16&app=resvlink&stop_mobi=yes or by calling (800) 228-9290. To receive the meeting rate, room reservations must be made by Friday, January 29, 2016.

The meeting will begin at 8:00 a.m. on Wednesday, February 17, 2016, and is scheduled to adjourn at 5:15 p.m. Among the topics that will be discussed by DOE representatives and contractors at the meeting are:

• DOE research to determine the performance of HBF during transportation, including vibration testing at Oak Ridge National Laboratory and both instrumented road testing and shaker-table testing being performed by Sandia National Laboratories. Discussion will focus on how the three studies complement each other to support understanding and modeling of the performance of HBF during transportation.

• Performance of HBF under transportation accident conditions, including an evaluation of the outcome of the American Society for Testing and Materials workshop held in August 2014 on hydride reorientation and an update on the results of research by Argonne National Laboratory related to determining the ductile-to-brittle transition temperature of HBF cladding.

• Status of the Cask Demonstration Program investigating the degradation of HBF and dry cask storage systems during extended dry storage. Data to be obtained from examination of sister rods removed from the HBF loaded into the demonstration cask and the effectiveness of the drying procedure will be discussed.

A detailed meeting agenda will be available on the Board's Web site at www.nwtrb.gov approximately one week before the meeting. The agenda may also be requested by email or telephone at that time from Davonya Barnes of the Board's staff.

The meeting will be open to the public. Opportunities for public comment will be provided before the lunch break and at the end of the day. Those wanting to speak are encouraged to sign the “Public Comment Register” at the check-in table. Depending on the number of people who sign up to speak, it may be necessary to set a time limit on individual remarks. However, written comments of any length may be submitted. All comments received in writing will be included in the record of the meeting posted on the Board's Web site. The meeting will also be webcast at: https://www.webcaster4.com/Webcast/Page/909/12650.

Transcripts of the meeting will be available on the Board's Web site no later than March 5, 2016. Copies of the transcripts will also be available by electronic transmission, on computer disk, or in paper format, and may be requested from Davonya Barnes.

The Board was established in the NWPAA as an independent federal agency in the Executive Branch to review the technical and scientific validity of DOE activities related to implementing the Nuclear Waste Policy Act and to provide objective expert advice to Congress and the Secretary of Energy on technical and scientific issues related to SNF and HLW management and disposal. Board members are experts in their fields and are appointed to the Board by the President from a list of candidates submitted by the National Academy of Sciences. The Board reports its findings, conclusions, and recommendations to Congress and the Secretary of Energy. All Board reports, correspondence, congressional testimony, and meeting transcripts and related materials are posted on the Board's Web site.

For information on the meeting agenda, contact Dr. Robert Einziger: einziger@nwtrb.gov or Karyn Severson: severson@nwtrb.gov. For information on lodging or logistics, contact Eva Moore: moore@nwtrb.gov. To request copies of the meeting agenda or the transcript, contact Davonya Barnes: barnes@nwtrb.gov. All four can be reached by mail at 2300 Clarendon Boulevard, Suite 1300, Arlington, VA 22201-3367; by telephone at 703-235-4473; or by fax at 703-235-4495.

Dated: January 6, 2016.
Nigel Mote,
Executive Director, U.S. Nuclear Waste Technical Review Board.

[FR Doc. 2016-00342 Filed 1-11-16; 8:45 am]

BILLING CODE P